DEPARTMENT OF HEALTH AND HUMAN SERVICES

National Institutes of Health

National Human Genome Research Institute; Notice of Meeting

Pursuant to section 1009 of the Federal Advisory Committee Act, as amended, notice is hereby given of a meeting of the National Advisory Council for Human Genome Research.

This is a hybrid meeting held in-person and virtually. The open session is open to the public and anyone who wants to attend can attend virtually as indicated below. Individuals who plan to view the virtual meeting and need special assistance or other reasonable accommodation should notify the Contact Person listed below in advance of the meeting. The meeting will be videocast and can be accessed from https://videocast.nih.gov/. Any member of the public may submit written comments no later than 15 days after the meeting.

Name of Committee: National Advisory Council for Human Genome Research.

Date: September 16, 2025.

Time: 9:00 a.m. to 1:00 p.m.

Agenda: To discuss matters of program relevance and reports of Institute Director and Institute Staff.

Address: National Human Genome Research Institute, National Institutes of Health, 6700B Rockledge Drive, Suite 1100, Rockledge, MD 20892 (Video Assisted Meeting).

Contact Person: Jennifer L. Troyer, Ph.D., Director, Division of Extramural Operations, National Human Genome Research Institute, National Institutes of Health, 6700B Rockledge Drive, Suite 1100, Rockledge, MD 20892, (301) 480-3565, troyerj@mail.nih.gov.

Any interested person may file written comments with the committee by forwarding the statement to the Contact Person listed on this notice. The statement should include the name, address, telephone number and when applicable, the business or professional affiliation of the interested person. The URL link to this meeting is: https://www.genome.gov/about-nhgri/Institute-Advisors/National-Advisory-Council-for-Human-Genome-Research. Any member of the public may submit written comments no later than 15 days after the meeting.

Information is also available on the Institute's/Center's home page: http://www.genome.gov/council, where an agenda and any additional information for the meeting will be posted when available.

(Catalogue of Federal Domestic Assistance Program Nos. 93.172, Human Genome Research, National Institutes of Health, HHS)

Dated: July 22, 2025.
Bruce A. George,
Program Analyst, Office of Federal Advisory Committee Policy.

[FR Doc. 2025-13969 Filed 7-23-25; 8:45 am]

BILLING CODE 4140-01-P